DEPARTMENT OF JUSTICE

National Institute of Corrections

Advisory Board; Notice of Meeting

This notice announces a forthcoming meeting of the National Institute of Corrections (NIC) Advisory Board. At least one portion of the meeting will be closed to the public.

Name of the Committee: NIC Advisory Board.

General Function of the Committee: To aid the National Institute of Corrections in developing long-range plans, advise on program development, and recommend guidance to assist NIC's efforts in the areas of training, technical assistance, information services, and policy/program development assistance to Federal, state, and local corrections agencies.

Date and Time: 2:00-5:00 p.m. EDT on Wednesday, May 26, 2021: 2:00-5:00 p.m. EDT on Thursday, May 27, 2021 (approximate times).

Location: Virtual Platform.

Contact Person: Leslie LeMaster, Executive Assistant, National Institute of Corrections, 320 First Street NW, Room 901-3, Washington, DC 20534. To contact Ms. LeMaster, please call (303) 338-6620.

Agenda: On May 26-27, 2021, the Advisory Board will: (1) Receive a brief Agency Report from the NIC Acting Director, (2) receive project-specific updates from both the NIC prisons and jails divisions, and (3) receive a Subcommittee Report related to the identification of potential NIC Director candidates. Time for questions and counsel from the Board is built in to the agenda.

Procedure: On May 26, 2021, from 2:00 p.m. until 5:00 p.m. and on May 27, 2021, from 2:00 p.m. until 4:00 p.m., the meeting is open to the public. Interested persons may request to attend virtually, present data, information, or views, orally or in writing, on issues pending before the committee. Such requests must be made to the contact person on or before May 14, 2021. Oral presentations from the public will be scheduled between approximately 4:00 p.m. to 4:15 p.m. on May 26, 2021. Time allotted for each presentation may be limited. Those who wish to make formal oral presentations should notify the contact person and submit a brief statement of the general nature of the evidence or arguments they wish to present, the names and addresses of proposed participants, and an indication of the approximate time requested to make their presentation on or before May 14, 2021.

Closed Committee Deliberations: On May 27, 2021, between 4:00 p.m. and 5:00 p.m., the meeting will be closed to permit discussion of information that (1) relates solely to the internal personnel rules and practices of an agency (5 U.S.C. 552b(c)(2)), and (2) is of a personal nature where disclosure would constitute a clearly unwarranted invasion of personal privacy (5 U.S.C. 552b(c)(6)). The Advisory Board will discuss the outcomes of the subcommittee's review of potential candidates for the position of Director of the National Institute of Corrections and make determinations as to the Advisory Board's recommendations to the U.S. Attorney General.

General Information: NIC welcomes the attendance of the public at its advisory committee meetings and will make every effort to accommodate persons with physical disabilities or special needs. If you require special accommodations due to a disability, please contact Leslie LeMaster at least 7 days in advance of the meeting. Notice of this meeting is given under the Federal Advisory Committee Act (5 U.S.C. app. 2).

Shaina Vanek,
Acting Director, National Institute of Corrections.

[FR Doc. 2021-08918 Filed 4-28-21; 8:45 am]

BILLING CODE 4410-36-P